SOCIAL SECURITY ADMINISTRATION

[Docket No: SSA-2020-0053]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and one extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2020-0053].

I. The information collections below are pending at SSA. SSA will submit them to OMB within 60 days from the date of this notice. To be sure we consider your comments, we must receive them no later than December 7, 2020. Individuals can obtain copies of the collection instruments by writing to the above email address.

1. Disability Report-Appeal—20 CFR 404.1512, 416.912, 404.916(c), 416.1416(c), 422.140, 404.1713, 416.1513, 404.1740(b)(4), and 416.1540(b)(4)—0960-0144. SSA requires disability applicants who wish to appeal an unfavorable determination to complete Form SSA-3441-BK; the associated Electronic Disability Collect System (EDCS) interview; or the internet application, i3441. This allows claimants to disclose any changes to their disability, or resources, which might influence SSA's unfavorable determination. SSA may use the information to: (1) Reconsider and review an initial disability determination; (2) review a continuing disability; and (3) evaluate a request for a hearing. This information assists the State Disability Determination Services (DDS) and administrative law judges (ALJ) in preparing for the appeals and hearings, and in issuing a determination or decision on an individual's entitlement (initial or continuing) to disability benefits. In addition, the information we collect on the SSA-3441-BK, or related modalities, facilitates SSA's collection of medical information to support the applicant's request for reconsideration; request for benefits cessation appeal; and request for a hearing before an ALJ. Respondents are individuals who appeal denial, reduction, or cessation of Social Security disability benefits and Supplemental Security Income (SSI) payments; individuals who wish to request a hearing before an ALJ; or their representatives.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-3441-BK (Paper Form) | 22,556 | 1 | 45 | 16,917 | * $18.22 | ** 24 | *** $472,609
Electronic Disability Collect System (EDCS)—Individuals | 208,831 | 1 | 45 | 156,623 | * 10.73 | ** 24 | *** 2,576,863
Electronic Disability Collect System (EDCS)—Representatives | 71,652 | 1 | 45 | 53,739 | * 25.72 |  | *** 1,382,167
i3441 (Internet Application)—Individuals | 109,598 | 1 | 28 | 51,146 | * 10.73 |  | *** 548,797
i3441 (Internet Application)—Representatives | 656,424 | 1 | 28 | 306,331 | * 25.72 |  | *** 7,878,833
Totals | 1,069,061 |  |  | 584,756 |  |  | *** 12,859,269
* We based these figures on average DI hourly wages for single students based on SSA's current FY 2020 data (https://www.ssa.gov/legislation/2020Fact%20Sheet.pdf), and on average U.S. citizen's hourly salary, as reported by Bureau of Labor Statistics data (https://www.bls.gov/oes/current/oes231011.htm), as well as a combination of those two figures (for the paper form, as we do not collect data on whether the paper forms are filled out by individuals or representatives or both).
** We based this figure on the average FY 2020 wait times for field offices, based on our current management information data.
*** This figure does not represent actual costs that we are imposing on recipients of Social Security payments to complete this application; rather, these are theoretical opportunity costs for the additional time respondents will spend to complete the application. There is no actual charge to respondents to complete the application.

2. Annual Earnings Test Direct Mail Follow-Up Program Notices—20 CFR 404.452-404.455—0960-0369. SSA developed the Annual Earnings Test Direct Mail Follow-up Program to improve beneficiary reporting on work and earnings during the year and earnings information at the end of the year. SSA may reduce benefits payable under the Social Security Act (Act) when an individual has wages or self-employment income exceeding the annual exempt amount. SSA identifies beneficiaries likely to receive more than the annual exempt amount, and requests more frequent estimates of earnings from them. When applicable, SSA also requests a future year estimate to reduce overpayments due to earnings. SSA sends letters (SSA-L9778, SSA-L9779, SSA-L9781, SSA-L9784, SSA-L9785, and SSA-L9790) to beneficiaries requesting earnings information the month prior to their attainment of full retirement age. We send each beneficiary a tailored letter that includes relevant earnings data from SSA records. The Annual Earnings Test Direct Mail Follow-up Program helps to ensure Social Security payments are correct, and enables us to prevent earnings-related overpayments, and avoid erroneous withholding. The respondents are working Social Security beneficiaries with earnings over the exempt amount.

Type of Request: Revision of an OMB-approved information collection.

Modality of completion | Number of respondents | Frequency of response | Average burden per response (minutes) | Estimated total annual burden (hours) | Average theoretical hourly cost amount (dollars) * | Total annual opportunity cost (dollars) **
SSA-L9778 | 42,630 | 1 | 10 | 7,105 | $25.72 | ** $182,741
SSA-L9779 | 158,865 | 1 | 10 | 26,478 | 25.72 | ** 681,014
SSA-L9781 | 472,437 | 1 | 10 | 78,740 | 25.72 | ** 2,025,193
SSA-L9784 | 1,270 | 1 | 10 | 212 | 25.72 | ** 5,453
SSA-L9785 | 15,870 | 1 | 10 | 2,645 | 25.72 | ** 68,029
SSA-L9790 | 45,000 | 1 | 10 | 7,500 | 25.72 | ** 192,900
Totals | 736,072 |  |  | 122,680 |  | ** 3,155,330
* We based these figures on the average U.S. citizen's hourly salary, as reported by Bureau of Labor Statistics data (https://www.bls.gov/oes/current/oes231011.htm).
** This figure does not represent actual costs that we are imposing on recipients of Social Security payments to complete this application; rather, these are theoretical opportunity costs for the additional time respondents will spend to complete the application. There is no actual charge to respondents to complete the application.

3. Request for Social Security Earnings Information—20 CFR 401.100 and 404.810—0960-0525. The Act permits wage earners, or their authorized representatives, to request Social Security earnings information from SSA using Form SSA-7050-F4. SSA uses the information the respondent provides on Form SSA-7050-F4 to verify the wage earner has: (1) Earnings; (2) the right to access the correct Social Security Record; and (3) the right to request the earnings statement. If we verify all three items, SSA produces an Itemized Statement of Earnings (Form SSA-1826) and sends it to the requestor. The agency charges respondents for sending them an Itemized Statement of Earnings. Respondents are wage earners and their authorized representatives who are requesting Itemized Statement of Earnings records.

Type of Request: Revision of an OMB-approved information collection.

Modality of completion | Number of respondents | Frequency of response | Average burden per response (minutes) | Estimated total annual burden (hours) | Average theoretical hourly cost amount (dollars) * | Total annual opportunity cost (dollars) **
SSA-7050-F4 | 66,800 | 1 | 11 | 12,247 | * $25.72 | ** $314,993
* We based this on the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

Cost Burden to Respondents: The agency charges respondents to send them an Itemized Statement of Earnings for purposes unrelated to the administration of our programs. The chart below shows the costs to the respondents for this request:

Type of respondent | Number of requests | Cost per request | Total annual cost to respondent
Non-Certified Copy Respondent | 33,400 | $92.00 | $3,072,800
Certified Copy Respondent | 33,400 | 122.00 | 4,074,800
Total |  |  | 7,147,600

4. Disability Case Development Information Collections By State Disability Determination Services On Behalf of SSA—20 CFR 404.1503a, 404.1512, 404.1513, 404.1514, 404.1517, 404.1519; 20 CFR 404.1613, 404.1614, 404.1624; 20 CFR 416.903a, 416.912, 416.913, 416.914, 416.917, 416.919 and 20 CFR 416.1013, 416.1014, 416.1024—0960-0555. DDSs collect the information necessary to administer the Social Security Disability Insurance and SSI programs. They collect medical evidence from consultative examination (CE) sources; credential information from CE source applicants; and medical evidence of record (MER) from claimants' medical sources. In addition, the DDSs collect information from claimants regarding medical appointments, pain, symptoms, and impairments. The respondents are medical providers, other sources of MER, and disability claimants.

Type of Request: Revision of an OMB-approved information collection.

CE Collections

There are four CE information collections: (a) Medical evidence about claimants' medical condition(s) that DDS's use to make disability determinations when the claimant's own medical sources cannot or will not provide the required information, and proof of credentials from CE providers; (b) CE appointment letters; (c) CE claimant reports sent to claimants' doctors; and (d) One-time CE claimant telehealth call script/letter.

(a) Medical Evidence and Credentials From CE Providers

Modality of completion | Number of respondents | Frequency of response | Average burden per response (minutes) | Estimated total annual burden (hours) | Average theoretical hourly cost amount (dollars) * | Total annual opportunity cost (dollars) **
CE Paper Submissions | 1,400,000 | 1 | 30 | 700,000 | * $40.21 | ** $28,147,000
CE Electronic Submissions | 296,000 | 1 | 10 | 49,333 | * 40.21 | ** 1,983,680
CE Credentials | 4,000 | 1 | 15 | 1,000 | * 40.21 | ** 40,210
Totals | 1,700,000 |  |  | 750,333 |  | ** 30,170,890
* We based this figure on average Healthcare Practitioners and Technical Occupations hourly salary, as reported by Bureau of Labor Statistics data (https://www.bls.gov/oes/current/oes290000.htm).

(b) CE Appointment Letters and (c) CE Claimants' Report to Medical Providers

Modality of completion | Number of respondents | Frequency of response | Average burden per response (minutes) | Estimated total annual burden (hours) | Average theoretical hourly cost amount (dollars) * | Total annual opportunity cost (dollars) **
(b) CE Appointment Letters | 880,000 | 1 | 5 | 73,333 | * $10.73 | ** $786,863
(c) CE Claimants' Report to Medical Providers | 450,000 | 1 | 5 | 37,500 | * 10.73 | ** 402,375
Totals | 1,330,000 |  |  | 110,833 |  | ** 1,189,238
* We based this figure on average DI payments based on SSA's current FY 2020 data (https://www.ssa.gov/legislation/2020Fact%20Sheet.pdf).

(d) CE Claimant Telehealth CE Call Script/Letter

Modality of completion | Number of respondents | Frequency of response | Average burden per response (minutes) | Estimated total annual burden (hours) | Average theoretical hourly cost amount (dollars) * | Total annual opportunity cost (dollars) **
CE Claimant Telehealth Call Script/Letter | 10,000 | 1 | 5 | 833 | * $10.73 | ** $8,938
* We based this figure on average DI payments based on SSA's current FY 2020 data (https://www.ssa.gov/legislation/2020Fact%20Sheet.pdf).

MER Collections

The DDS's collect MER information from the claimant's medical sources to determine a claimant's physical or mental status prior to making a disability determination.

Modality of completion | Number of respondents | Frequency of response | Average burden per response (minutes) | Estimated total annual burden (hours) | Average theoretical hourly cost amount (dollars) * | Total annual opportunity cost (dollars) **
Paper Submissions | 3,150,000 | 1 | 20 | 1,050,000 | * $40.21 | ** $42,220,500
Electronic Submissions | 9,450,000 | 1 | 12 | 1,890,000 | * 40.21 | ** 75,996,900
Totals | 12,600,000 |  |  | 2,940,000 |  | ** 118,217,400
* We based this figure on average Healthcare Practitioners and Technical Occupations hourly salary, as reported by Bureau of Labor Statistics data (https://www.bls.gov/oes/current/oes290000.htm).

Pain/Other Symptoms/Impairment Information From Claimants

The DDS's use information about pain/symptoms to determine how pain/symptoms affect the claimant's ability to do work-related activities prior to making a disability determination.

Modality of completion | Number of respondents | Frequency of response | Average burden per response (minutes) | Estimated total annual burden (hours) | Average theoretical hourly cost amount (dollars) * | Total annual opportunity cost (dollars) **
Pain/Other Symptoms/Impairment Information | 2,100,000 | 1 | 20 | 700,000 | * $18.23 | ** $12,761,000
* We based this figure on averaging both the average DI payments based on SSA's current FY 2020 data (https://www.ssa.gov/legislation/2020Fact%20Sheet.pdf), and the average U.S. worker's hourly wages, as reported by Bureau of Labor Statistics data (https://www.bls.gov/oes/current/oes_nat.htm).

Grand Total

Modality of completion | Number of respondents | Frequency of response | Average burden per response (minutes) | Estimated total annual burden (hours) | Average theoretical hourly cost amount (dollars) * | Total annual opportunity cost (dollars) **
Totals | 17,740,000 |  |  | 4,501,999 |  | $162,347,466
** This figure does not represent actual costs that SSA is imposing on recipients of Social Security payments to complete this application; rather, these are theoretical opportunity costs for the additional time respondents will spend to complete the application. There is no actual charge to respondents to complete the application.

5. Work History Report—20 CFR 404.1512, 416.912, 404.1560, 404.1565, 416.960 and 416.965—0960-0578. Under certain circumstances, SSA asks individuals applying for disability about work they have performed in the past. Applicants use Form SSA-3369, Work History Report, to provide detailed information about jobs held prior to becoming unable to work. State Disability Determination Services (DDS) evaluate the information, together with medical evidence, to determine eligibility for disability payments. Respondents are disability applicants and third parties assisting applicants.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-3369 (Paper form) | 1,553,900 | 1 | 60 | 1,553,900 | * $18.23 | ** 24 | *** $39,658,636
SSA-3369 (EDCS) | 38,049 | 1 | 60 | 38,049 | * 18.23 | ** 24 | *** 971,094
Totals | 1,591,949 |  |  | 1,591,949 |  |  | *** 40,629,730
* We based this figure by averaging both the average DI payments based on SSA's current FY 2020 data (https://www.ssa.gov/legislation/2020Fact%20Sheet.pdf), and the average U.S. worker's hourly wages, as reported by Bureau of Labor Statistics data (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

6. Teacher Questionnaire and Request for Administrative Information—20 CFR 404.1513, 416.913, and 416.924a(a)—0960-0646. When determining the effects of a child's impairment(s), SSA obtains information about the child's functioning from teachers; parents; and others who observe the child on a daily basis. SSA obtains results of formal testing, teacher reports, therapy progress notes, individualized education programs, and other records of a child's educational aptitude and achievements using Forms SSA-5665-BK and SSA-5666. The respondents are parents, teachers, and other education personnel.

Type of Request: Revision of an OMB-approved information collection.

Modality of completion | Number of respondents | Frequency of response | Average burden per response (minutes) | Estimated total annual burden (hours) | Average theoretical hourly cost amount (dollars) * | Total annual opportunity cost (dollars) **
SSA-5665-BK (electronic) | 246,539 | 1 | 40 | 164,359 | * $26.14 | ** $4,296,344
SSA-5666 (electronic) | 91,186 | 1 | 30 | 45,593 | * 26.14 | ** 1,191,801
Totals | 337,725 |  |  | 209,952 |  | ** 5,488,145
* We based this figure on average Elementary and Secondary School worker's hourly wages, as reported by Bureau of Labor Statistics data (https://www.bls.gov/oes/current/oes250000.htm).
** This figure does not represent actual costs that SSA is imposing on recipients of Social Security payments to complete this application; rather, these are theoretical opportunity costs for the additional time respondents will spend to complete the application. There is no actual charge to respondents to complete the application.

7. Electronic Records Express—20 CFR 404.1512 and 416.912—0960-0753. Electronic Records Express (ERE) is a Web-based SSA program which allows medical and educational providers to electronically submit disability claimant data to SSA. Both medical providers and other third parties with connections to disability applicants or recipients (e.g., teachers and school administrators for child disability applicants) use this system once they complete the registration process. SSA employees and State agency employees request the medical and educational records collected through the ERE website. The agency uses the information collected through ERE to make a determination on an Application for Benefits. We also use the ERE website to order and receive consultative examinations when we are unable to collect enough medical records to determine disability findings. The respondents are medical providers who evaluate or treat disability claimants or recipients, and other third parties with connections to disability applicants or recipients (e.g., Teachers and school administrators for child disability applicants), who voluntarily choose to use ERE for submitting information.

Type of Request: Revision of an OMB-approved information collection.

Modality of completion | Number of respondents | Frequency of response | Average burden per response (minutes) | Estimated total annual burden (hours) | Average theoretical hourly cost amount (dollars) * | Total annual opportunity cost (dollars) **
ERE | 6,183,548 | 1 | 10 | 1,030,591 | * $33.18 | ** $34,195,009
* We based this figure by averaging both the average Healthcare Practitioners and Technical Occupations (https://www.bls.gov/oes/current/oes290000.htm), and Elementary and Secondary School worker's hourly wages, as reported by Bureau of Labor Statistics data (https://www.bls.gov/oes/current/oes250000.htm).
** This figure does not represent actual costs that SSA is imposing on recipients of Social Security payments to complete this application; rather, these are theoretical opportunity costs for the additional time respondents will spend to complete the application. There is no actual charge to respondents to complete the application.

8. Medicare Part D Subsidies Regulations—20 CFR 418.3625(c), 418.3645, 418.3665(a), and 418.3670—0960-0702. The Medicare Prescription Drug Improvement and Modernization Act (MMA) of 2003 established the Medicare Part D program for voluntary prescription drug coverage of premium, deductible, and co-payment costs for certain low-income individuals. The MMA also mandated the provision of subsidies for those individuals who qualify for the program and who meet eligibility criteria for help with premium, deductible, or co-payment costs. This law requires SSA to make eligibility determinations, and to provide a process for appealing SSA's determinations. Regulation sections 418.3625(c), 418.3645, 418.3665(a), and 418.3670 contain public reporting requirements pertaining to administrative review hearings. Respondents are applicants for the Medicare Part D subsidies who request an administrative review hearing.

Type of Request: Revision of an existing OMB-approved information collection.

Modality of completion | Number of respondents | Frequency of response | Average burden per response (minutes) | Estimated total annual burden (hours) | Average theoretical hourly cost amount (dollars) ** | Total annual opportunity cost (dollars) ***
418.3625(c) | 110 | 1 | 5 | 9 | ** $10.73 | *** $97
418.3645 | 10 | 1 | 5 | 1 | ** 10.73 | *** 11
418.3665(a) | 215 | 1 | 5 | 18 | ** 10.73 | *** 193
418.3670 * | 0 | 1 | 10 | 0 |  |
Total | 335 |  |  | 28 |  | *** 301
* Regulation section 418.3670 could be used at any time; however, we currently have no data showing usage over the past three years.
** We based this figure on average DI payments (https://www.ssa.gov/legislation/2020Fact%20Sheet.pdf).
*** This figure does not represent actual costs that SSA is imposing on recipients of Social Security payments to complete this application; rather, these are theoretical opportunity costs for the additional time respondents will spend to complete the application. There is no actual charge to respondents to complete the application.

9. Request for Medical Treatment in an SSA Employee Health Facility: Patient Self-Administered or Staff Administered Care—0960-0772. SSA operates onsite Employee Health Clinics (EHC) in eight different States. These clinics provide health care for all SSA employees including treatments of personal medical conditions when authorized through a physician. Form SSA-5072 is the employee's personal physician's order form. The information we collect on Form SSA-5072 gives the nurses the guidance they need by law to perform certain medical procedures and to administer prescription medications such as allergy immunotherapy. In addition, the information allows the SSA medical officer to determine whether the treatment can be administered safely and appropriately in the SSA EHCs. Respondents are physicians of SSA employees who need to have medical treatment in an SSA EHC.

Type of Request: Revision of an OMB-approved information collection.

Modality of completion | Number of respondents | Frequency of response | Number of responses | Average burden per response (minutes) | Estimated total annual burden (hours) | Average theoretical hourly cost amount (dollars) * | Total annual opportunity cost (dollars) ***
SSA-5072 Annually | 25 | 1 | 25 | 5 | 2 | * $96.85 | ** $194
SSA-5072 Bi-Annually | 75 | 2 | 150 | 5 | 13 | * 96.85 | ** 1,259
Totals | 100 |  |  |  | 15 |  | ** 1,453
* We based this figure on average physician's hourly salary, as reported by Bureau of Labor Statistics data (https://www.bls.gov/oes/current/oes291216.htm).
** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than November 9, 2020. Individuals can obtain copies of these OMB clearance packages by writing to OR.Reports.Clearance@ssa.gov.

1. Online Request for Correction of Earnings Record—0960-NEW. We are offering an alternative to the paper process of requesting a correction to an earnings record, and launching a new service that enables our users to make these same requests electronically via the online my Social Security portal. Information collected from the public will not exceed that which SSA requests through the paper Form SSA-7008, OMB No. 0960-0029, Request for Correction of Earnings Record. The information we collect includes items which support an earnings correction action, such as employer names, addresses, wage amounts, and pertinent details about the nature of employment. The respondents are authorized, authenticated individuals accessing the earnings correction process from their personal account using the my Social Security portal.

Type of Request: Request for a new information collection.

Modality of completion | Number of respondents | Frequency of response | Average burden per response (minutes) | Estimated total annual burden (hours) | Average theoretical hourly cost amount (dollars) ** | Total annual opportunity cost (dollars) ***
Online Request for Correction of Earnings Record | 76,047 | 1 | 15 | 19,012 | * $25.72 | ** $488,989
* We based this figure on average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

2. Statement of Death by Funeral Director—20 CFR 404.715 and 404.720—0960-0142. When an SSA-insured worker dies, the funeral director or funeral home responsible for the worker's burial or cremation completes Form SSA-721 and sends it to SSA. SSA uses this information for three purposes: (1) To establish proof of death for the insured worker; (2) to determine if the insured individual was receiving any pre-death benefits SSA needs to terminate; and (3) to ascertain which surviving family member is eligible for the lump-sum death payment or for other death benefits. The respondents are funeral directors who handled death arrangements for the insured individuals.

Type of Request: Revision of an OMB-approved information collection.

Modality of completion | Number of respondents | Frequency of response | Average burden per response (minutes) | Estimated total annual burden (hours) | Average theoretical hourly cost amount (dollars) * | Total annual opportunity cost (dollars) **
SSA-721 | 544,233 | 1 | 4 | 36,282 | * $28.06 | ** $1,018,073
* We based this figure on average funeral arranger's hourly salary, as reported by Bureau of Labor Statistics data (https://www.bls.gov/oes/current/oes_nat.htm).
*** This figure does not represent actual costs that SSA is imposing on recipients of Social Security payments to complete this application; rather, these are theoretical opportunity costs for the additional time respondents will spend to complete the application. There is no actual charge to respondents to complete the application.

3. Medicaid Use Report—20 CFR 416.268—0960-0267. Section 20 CFR 416.268 of the Code of Federal Regulations requires SSA to determine eligibility for: (1) Special SSI cash payments and, (2) special SSI eligibility status for a person who works despite a disabling condition. Section 20 CFR 416.268 also provides that, to qualify for special SSI eligibility status, an individual must establish that termination of eligibility for benefits under Title XIX of the Act would seriously inhibit the ability to continue employment. SSA employees collect the information this regulation requires from respondents during a personal interview. We then use this information to determine if an individual is entitled to special Title XVI SSI payments and, consequently, to Medicaid. The respondents are SSI recipients for whom SSA has stopped payments based on earnings.

Type of Request: Extension of an OMB-approved information collection.

Modality of completion | Number of respondents | Frequency of response | Average burden per response (minutes) | Estimated total annual burden (hours) | Average theoretical hourly cost amount (dollars) * | Average wait time in field office (minutes) ** | Total annual opportunity cost (dollars) ***
20 CFR 416.268 | 60.000 | 1 | 3 | 3,000 | * $10.73 | ** 24 | *** $289,710
* We based this figure on average DI payments based on SSA's current FY 2020 data (https://www.ssa.gov/legislation/2020Fact%20Sheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

4. Public Information Campaign—0960-0544. Periodically, SSA sends various public information materials, including public service announcements; news releases; and educational tapes, to public broadcasting systems so they can inform the public about various programs and activities SSA conducts. SSA frequently sends follow-up business reply cards for these public information materials to obtain suggestions for improving them. The respondents are broadcast sources.

Type of Request: Revision of an OMB-approved information collection.

Modality of completion | Number of respondents | Frequency of response | Average burden per response (minutes) | Estimated total annual burden (hours) | Average theoretical hourly cost amount (dollars) * | Total annual opportunity cost (dollars) **
Radio | 5,000 | 2 | 1 | 167 | * $25.76 | ** $4,302
* We based this figures on average Broadcast Announcers and Radio Disc Jockey's hourly salary, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

Dated: October 5, 2020.
Naomi Sipple,
Reports Clearance Officer, Social Security Administration.

[FR Doc. 2020-22297 Filed 10-7-20; 8:45 am]

BILLING CODE 4191-02-P